DEPARTMENT OF COMMERCE

National Oceanic and Atmospheric Administration

50 CFR Part 648

[Docket No. 110816505-2184-03]

RIN 0648-XC201

Fisheries of the Northeastern United States; Northeast Multispecies Fisheries Management Plan; Northern Red Hake Quota Harvested

AGENCY: National Marine Fisheries Service (NMFS), National Oceanic and Atmospheric Administration (NOAA), Commerce.

ACTION: Temporary rule; possession limit reduction.

SUMMARY: The northern red hake possession limit is reduced to the incidental possession limit of 400 lb (181.44 kg) for the remainder of the 2012 fishing year.

DATES: Effective at 0001 hr local time, September 20, 2012, through 2400 hr local time April 30, 2013.

FOR FURTHER INFORMATION CONTACT: Jason Berthiaume, (978) 281-9177, or Jason.Berthiaume@noaa.gov.

SUPPLEMENTARY INFORMATION: The regulations at 50 CFR 648.86(d)(4) require that, if the NMFS Northeast Region Administrator (Regional Administrator) projects that 90 percent of the total allowable landings (TAL) has been landed for a small-mesh multispecies stock, the Regional Administrator shall reduce the possession limit for that stock to the incidental possession limit of 400 lb (181.44 kg) for the remainder of the fishing year.

The 2012 fishing year northern red hake TAL is 199,077 lb (90,300 kg) (77 FR 19138; March 30, 2012) and 90 percent of the TAL is 179,169 lb (81,270 kg). Based on dealer, vessel trip report, and other available information, NMFS has determined that as of September 8, 90 percent of the available 2012 TAL for northern red hake has been landed. Therefore, effective 0001 hr, September 20, 2012, the possession limit for northern red hake is reduced to the incidental possession limit of 400 lb (181.44 kg). This incidental possession limit will be in effect through the remainder of the fishing year, which ends April 30, 2013.

Classification

This action is required by 50 CFR part 648 and is exempt from review under Executive Order 12866.

Authority: 16 U.S.C. 1801 et seq.

Dated: September 17, 2012.
Lindsay Fullenkamp,
Acting Deputy Director, Office of Sustainable Fisheries, National Marine Fisheries Service.

[FR Doc. 2012-23254 Filed 9-17-12; 4:15 pm]

BILLING CODE 3510-22-P